DEPARTMENT OF COMMERCE

Census Bureau

Proposed Information Collection; Comment Request; Construction Progress Reporting Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 30, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Erica M. Filipek, U.S. Census Bureau, EID, CENHQ Room 7K057, 4600 Silver Hill Road, Washington, DC 20233-6900, telephone (301) 763-5161 (or via email at erica.mary.filipek@census.gov).

SUPPLEMENTARY INFORMATION:

I. Abstract

The Census Bureau plans to request a revision of a currently approved collection for forms C-700, C-700(R), C-700(SL), and C-700(F). These forms are used to conduct the Construction Progress Reporting Surveys (CPRS) and collect information on the dollar value of construction put in place. Form C-700, Private Construction Projects, collects construction put in place data for nonresidential projects owned by private companies or individuals. Form C-700(R), Multi-family Residential Projects, collects construction put in place data for private multi-family residential buildings. Form C-700(SL), State and Local Government Projects, collects construction put in place data for state and local government projects. Form C-700(F), Federal Government Projects collects construction put in place for federal government projects.

The Census Bureau uses the information from these surveys to publish the value of construction put in place for the `Construction Spending' monthly principal economic indicator. Published estimates are used by a variety of private business and trade associations to estimate the demand for building materials and to schedule production, distribution, and sales efforts. They also provide various government agencies with a tool to evaluate economic policy and to measure progress towards established goals. For example, Bureau of Economic Analysis staff use data to develop the construction components of gross private domestic investment in the gross domestic product. The Federal Reserve Board and the Department of the Treasury use the value in place data to predict the gross domestic product, which is presented to the Board of Governors and has an impact on monetary policy.

There are two changes planned to the content of these questionnaires. The first is the elimination of the data item for square footage of the construction project. This information was used for editing but is no longer needed. The second change is the addition of a data item to collect the projected completion date to assist with imputation if a response is not obtained in future months.

II. Method of Collection

An independent systematic sample of construction projects is selected each month according to predetermined sample rates. Once a project is selected, it remains in the sample until completion of the project. Preprinted forms are mailed monthly to respondents to fill in current month data and any revisions to previous months. Respondents also have the option to report online using a password protected site. Nonrespondents are later called by a Census interviewer and are asked to report data over the phone. Having the information available from a database at the time of the interview greatly helps reduce the time respondents spend on the phone. Interviews are scheduled at the convenience of the respondent, which further reduces their burden.

III. Data

OMB Control Number: 0607-0153.

Form Number(s): C-700, C-700(R), C-700(SL), C-700(F).

Type of Review: Regular submission.

Affected Public: Individuals, Businesses or Other for Profit, Not-for-Profit Institutions, Small Businesses or Organizations, State and Local Governments and the Federal Government.

Estimated Number of Respondents: C-700 = 6,900; C-700(R) = 3,300; C-700(SL) = 12,200; C-700(F) = 1,600; TOTAL = 24,000.

Estimated Time per Response: 30 min. for the first month; and 10 min. for the subsequent months. We estimate, on average, that projects remain in sample for 12 months.

Estimated Total Annual Burden Hours: 56,000.

Estimated Total Annual Cost to Public: $0.

Respondent's Obligation: Voluntary.

Legal Authority: Title 13 U.S.C. 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 25, 2015.
Glenna Mickelson,
Management Analyst, Office of the Chief Information Officer.

[FR Doc. 2015-21389 Filed 8-28-15; 8:45 am]

BILLING CODE 3510-07-P